DEPARTMENT OF VETERANS AFFAIRS

[OMB Control No. 2900-0074]

Agency Information Collection Activity: Request for Change of Program or Place of Training

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

The VA Form 22-1995 is used to determine the applicant's continued eligibility to educational assistance administered by VA after a change in training or the place where training is pursued.

DATES: Written comments and recommendations on the proposed collection of information should be received on or before June 18, 2018.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0074” in any correspondence. During the comment period, comments may be viewed online through the FDMS.

FOR FURTHER INFORMATION CONTACT: Nancy J. Kessinger at (202) 632-8924 or FAX (202) 632-8925.

SUPPLEMENTARY INFORMATION: Under the PRA of 1995, Federal agencies must obtain approval from the Office of Management and Budget (OMB) for each collection of information they conduct or sponsor. This request for comment is being made pursuant to of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-21; 5 CFR 1320, Section 3506(c)(2)(A).

Title: Request for Change of Program or Place of Training (VA Form 22-1995).

OMB Control Number: 2900-0074.

Type of Review: Extension of an approved collection.

Abstract: VA Form 22-1995 is used to determine the applicant's continued eligibility to educational assistance administered by VA after a change in training or the place where training is pursued.

Affected Public: Individuals or households.

Estimated Annual Burden: 57,009 hours.

Estimated Average Burden per Respondent: 15 minutes (Electronic) 20 minutes (Paper).

Frequency of Response: One time.

Estimated Number of Respondents: 184,894.

By direction of the Secretary.
Cynthia D. Harvey-Pryor,
Department Clearance Officer, Office of Quality, Privacy and Risk, Department of Veterans Affairs.

[FR Doc. 2018-07948 Filed 4-16-18; 8:45 am]

BILLING CODE 8320-01-P